NUCLEAR REGULATORY COMMISSION

Request To Amend a License To Import Radioactive Waste

Pursuant to 10 CFR 110.70(C) “Public notice of receipt of an application,” please take notice that the Nuclear Regulatory Commission has received the following request to amend an import license. Copies of the request are available electronically through ADAMS and can be accessed through the Public Electronic Reading Room (PERR) link http://www.nrc.gov/NRC/ADAMS/index.html at the NRC homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

The information concerning this amendment request follows.

NRC Import License Application
Name of applicant, date of application, date received, application number, docket number | Description of material: Material type | Description of material: Total qty | End use | Country of origin
Philotechnics, Ltd., June 17, 2003, June 24, 2003, IW010/01, 11005216 | Class A radiocative waste, as DU aircraft counterweights | 50,000.00 kgs DU metal, aircraft counter-weights | Amend to increase quantity, extend expiration date, add intermediate US consignee and update licensee address. Counterweights to be recycled; if disposal necessary services to be provided by Waste Control Specialists, L.L.C., Andrews County, TX | United Kingdom.

For the Nuclear Regulatory Commission.
Dated this 30 day of September, 2003, at Rockville Maryland.
Edward T. Baker,
Deputy Director, Office of International Programs.

[FR Doc. 03-25365 Filed 10-6-03; 8:45 am]

BILLING CODE 7590-01-P